DEPARTMENT OF ENERGY

Federal Energy Regulatory Commission

[Docket No. EC04-91-000, et al.]

Pacificorp, et al.; Electric Rate and Corporate Filings

April 8, 2004.

The following filings have been made with the Commission. The filings are listed in ascending order within each docket classification.

1. Pacificorp, Avista Corporation, Puget Sound Energy, Inc., and 2677588 Washington LLC

[Docket No. EC04-91-000]

Take notice that on April 6, 2004, Pacificorp, Avista Corporation, Puget Sound Energy, Inc., and 2677588 Washington LLC, (collectively, Applicants), filed with the Federal Energy Regulatory Commission an application pursuant to section 203 of the Federal Power Act for authorization of a disposition of jurisdictional facilities whereby 2677588 Washington LLC, a limited liability company formed by TransAlta USA Inc. would purchase the Skookumchuck dam, hydroelectric facility and related assets (the Project). The Applicants states that the Project consists generally of an earth-fill dam, a one-megawatt hydroelectric generating facility and related equipment located in the vicinity of Centralia, Washington. Applicants do not believe that the proposed transaction requires section 203 approval, but nevertheless submit this Application to eliminate any doubt about jurisdictional assets prior to the closing of the sale. Applicants further states that the proposed sale does not require 2677588 Washington LLC to participate as an Applicant, but the purchaser nevertheless joins in this Application in order to ensure timely closing of the transaction.

Comment Date: April 27, 2004.

2. Oklaunion Electric Generating Cooperative, Inc.

[Docket No. EG04-52-000]

On April 6, 2004, Oklaunion Electric Generating Cooperative, Inc. (OEGC) filed with the Federal Energy Regulatory Commission an application for determination of exempt wholesale generator status pursuant to part 365 of the Commission's regulations.

OEGC states that pursuant to a Purchase and Sale Agreement dated as of January 31, 2004, OEGC will obtain an undivided 7.81% ownership interest in the Oklaunion Power Station, a 690 MW coal-fired facility located in Wilbarger County, Texas. OEGC further states that this purchase could occur as early as May 13, 2004. Golden Spread Electric Cooperative, Inc., OEGC's sole member, will purchase the output of the facility.

Comment Date: April 27, 2004.

3. MEP Pleasant Hill, LLC

[Docket No. ER99-2858-001]

Take notice that on April 5, 2004, MEP Pleasant Hill, LLC (MEPPH) pursuant to the Commission's order issued on June 17, 1999, in Docket No. ER99-2858-000, submitted for filing a notification of change in status regarding the facts the Commission relied upon in granting approval of market-based rates for MEPPH.

Comment Date: April 26, 2004.

4. Exelon Generation Company, LLC

[Docket Nos. ER01-948-000 and ER01-1008-000]

Take notice that on February 13, 2004, Exelon Generating Company, LLC (Exelon Generation) submitted a filing withdrawing the power sales agreements between Commonwealth Edison Company, an affiliate of Exelon Generation, and Entergy-Koch Trading, LP ¹ filed on January 12, 2001, in Docket No. ER01-1008-000 and January 19, 2001, in Docket No. ER01-1008-000.

¹ ComEd's original counterparty to the agreement was CNG Power Services Corporation (CNG), but CNG subsequently assigned the agreement to Entergy Power and Marketing Corporation, which now is known as Entergy-Koch Trading, LP.

Exelon Generation states that a copy of the filing has been served on the parties on the Commission's service list in these proceedings.

Comment Date: April 19, 2004.

5. Magnolia Energy LP

[Docket No. ER01-1335-003]

Take notice that on April 5, 2004, Magnolia Energy LP (Magnolia), submitted for filing with the Commission its triennial updated market analysis and revisions to its FERC Electric Tariff, Original Volume No. 1 to incorporate the Market Behavior Rules set forth in Investigation of Terms and Conditions of Public Utility Market-Based Rate Authorizations, 105 FERC ¶ 61,218 (2003).

Comment Date: April 26, 2004.

6. PJM Interconnection, L.L.C.

[Docket No. ER04-367-002]

Take notice that on April 2, 2004, PJM Interconnection, L.L.C. (PJM) and Commonwealth Edison Company and Commonwealth Edison Company of Indiana, Inc. (ComEd) submitted a compliance filing pursuant to the Commission's March 18, 2004, Order in this proceeding, 106 FERC ¶ 61,252 (2004). PJM and ComEd requested an effective date of May 1, 2004.

PJM and ComEd state that copies of the filing were served on all PJM members, the utility regulatory commissions in the PJM region, and all persons on the service list for this proceeding.

Comment Date: April 13, 2004.

7. Midwest Independent Transmission System Operator, Inc., and PJM Interconnection, L.L.C.

[Docket No. ER04-375-001]

Take notice that on April 2, 2004, the Midwest Independent Transmission System Operator, Inc. (Midwest ISO) and PJM Interconnection, L.L.C. (PJM) submitted a compliance filing pursuant to an order issued on March 18, 2004, in Docket No. ER04-375-000, 106 FERC ¶ 61,251.

Midwest ISO and PJM state that copies of the filing were served upon all persons on the service list in this docket, as well as all PJM members, and each state electric utility regulatory commission in the PJM regions. Service upon Midwest ISO members and other stakeholders was requested to be waived; however, the filing is available on the Midwest ISO Internet site.

Comment Date: April 23, 2004.

8. Commonwealth Edison Company

[Docket No. ER04-589-001]

Take notice that on April 6, 2004, Commonwealth Edison Company (ComEd) submitted a filing withdrawing Original Service Agreement Nos. 767 through 779 under ComEd's FERC Electric Rate Tariff, Second Revised Volume No. 5. The service agreements were filed with the Commission on February 26, 2004.

ComEd states that a copy of the filing has been served on the parties on the Commission's service list and the Illinois Commerce Commission.

Comment Date: April 27, 2004.

9. Commonwealth Edison Company

[Docket No. ER04-594-000]

Take notice that on April 6, 2004, Commonwealth Edison Company (ComEd) submitted a filing withdrawing Original Service Agreement Nos. 780 through 784 under ComEd's FERC Electric Rate Tariff, Second Revised Volume No. 5. The service agreements were filed with the Commission on February 27, 2004.

ComEd states that a copy of the filing has been served on the parties on the Commission's service list and the Illinois Commerce Commission.

Comment Date: April 27, 2004.

10. Entergy Services, Inc.

[Docket No. ER04-699-000]

Take notice that on April 1, 2004, Entergy Services, Inc., on behalf of Entergy Arkansas, Inc., Entergy Gulf States, Inc., Entergy Louisiana, Inc., Entergy Mississippi, Inc., and Entergy New Orleans, Inc. (collectively, Entergy), filed proposed revisions to the Entergy Open Access Transmission Tariff (OATT), FERC Electric Tariff Second Revised Volume No. 3. Entergy states that the proposed revisions are designed to achieve greater independence and efficiency in the provision of transmission service, and the pricing of that service, on the Entergy system.

Comment Date: May 17, 2004.

11. Virginia Electric and Power Company

[Docket No. ER04-702-000]

Take notice that on April 2, 2004, Virginia Electric and Power Company (Dominion Virginia Power) tendered for filing an Amended Contract designated as Second Revised Rate Schedule FERC No. 132, Service Agreement for Network Integration Transmission Service and Network Operating Agreement, designated as Service Agreement No. 381, and Service Agreement for Firm Point-To-Point Transmission Service, designated as Service Agreement No 382. Dominion Virginia Power requests an effective date of January 1, 2004.

Comment Date: April 23, 2004.

12. MidAmerican Energy Company

[Docket No. ER04-703-000]

Take notice that on April 2, 2004, MidAmerican Energy Company (MidAmerican), tendered for filing with the Commission an Electric Interconnection Agreement between MidAmerican Energy Company and Northwest Iowa Power Cooperative, which incorporates the Third Amendment to the Agreement dated March 9, 2004. MidAmerican requests an effective date of the later of the effective date of the acceptance of this Agreement by the Commission or the approval of this Agreement, incorporating the Fifth Amendment by the Administrator of the Rural Utilities Service or the successor in interest to the Administrator, if the approval of the Administrator or such successor is required by law.

MidAmerican states that it has served a copy of the filing on the Iowa Utilities Board, the Illinois Commerce Commission and the South Dakota Public Utilities Commission.

Comment Date: April 23, 2004.

13. Premcor Generating LLC

[Docket No. ER04-704-000]

Take notice that on April 2, 2004, Premcor Generating LLC submitted for filing notification that Williams Generating Memphis, LLC was sold to Premcor Refining Group Inc. and the name has been changed to Premcor Generating LLC.

Comment Date: April 23, 2004.

14. Fitchburg Gas and Electric Light Company

[Docket No. ER04-707-000]

Take notice that on April 2, 2004, Fitchburg Gas and Electric Light Company (FG&E) tendered for filing pursuant to Commission Order No. 618 and section 205 of the Federal Power Act proposed changes in its transmission depreciation rates for its Pool Transmission Facilities that are indirectly subject to the formula rate in the New England Power Pool's open access transmission tariff. FG&E requests a June 1, 2004, effective date.

FG&E states that copies of the filing were served upon New England Power Company, ISO New England, Inc. and the Massachusetts Department of Telecommunications and Energy.

Comment Date: April 23, 2004.

15. Horsehead Corp.

[Docket No. ER04-708-000]

Take notice that on April 2, 2004, Horsehead Corp. (Horsehead) filed with the Commission a Notice of Succession adopting the FERC Electric Tariff, Original Volume No. 1 of Horsehead Industries, Inc. (Tariff) and a revised Tariff reflecting the name change from Horsehead Industries, Inc. to Horsehead Corp.

Comment Date: April 23, 2004.

16. Deseret Generation & Transmission Co-operative, Inc.

[Docket No. ER04-709-000]

Take notice that on April 2, 2004, Deseret Generation & Transmission Co-operative, Inc. (Deseret) tendered for filing an amendment to First Revised Service Agreement No. 5 under Deseret's FERC Electric Tariff, Original Volume 1, an Agreement for Large Industrial Rate between Deseret and one of its members, Moon Lake Electric Association, Inc. Deseret requests an effective date of May 1, 2004.

Deseret states that copies of this filing have been served upon Deseret's member cooperatives.

Comment Date: April 23, 2004.

17. PJM Interconnection, L.L.C.

[Docket No. ER04-710-000]

Take notice that on April 2, 2004, PJM Interconnection, L.L.C. (PJM), submitted for filing an executed interconnection service agreement (ISA) among PJM, PPL Susquehanna, L.L.C. and PPL Electric Utilities Corporation and notices of cancellation of an ISA that has been superseded. PJM requests a waiver of the Commission's 60-day notice requirement to permit a March 4, 2004, effective date for the ISA and the notices of cancellation.

PJM states that copies of this filing were served upon the parties to the agreements and the State regulatory commissions within the PJM region.

Comment Date: April 23, 2004.

18. Florida Keys Electric Cooperative Association, Inc.

[Docket No. ER04-713-000]

Take notice that on April 5, 2004, Florida Keys Electric Cooperative Association, Inc. (FKEC) tendered for filing a revised rate for non-firm transmission service provided to Keys Energy Services, Key West, Florida (KES) in accordance with the terms and conditions of the Long-Term Joint Investment Transmission Agreement between the Parties.

FKEC states that a copy of this filing has been served on KES and the Florida Public Service Commissioner.

Comment Date: April 26, 2004.

19. American Electric Power Service Corporation

[Docket No. ER04-715-000]

Take notice that on April 5, 2004, the American Electric Power Service Corporation (AEPSC), as agent for Indiana Michigan Power Company (I&M), tendered for filing a Modification to the Letter Agreement (Agreement) between I&M and Northern Indiana Public Service Company. AEP requests an effective date of April 5, 2004.

AEPSC states that a copy of the filing was served upon Northern Indiana Public Service Company and the Indiana Utility Regulatory Commission and Michigan Public Service Commission.

Comment Date: April 26, 2004.

20. Atlantic City Electric Company

[Docket No. ER04-716-000]

Take notice that on April 5, 2004, Atlantic City Electric Company (Atlantic) tendered for filing an executed Interconnection Agreement between Atlantic and the City of Vineland, New Jersey (Vineland). Atlantic also tendered for filing a Notice of Cancellation of its Rate Schedule No. 74. Atlantic requests an effective date of March 20, 2004.

Atlantic states that copies of the filing were served upon Vineland and the State of New Jersey Board of Public Utilities.

Comment Date: April 26, 2004.

21. EcoEléctrica, L.P.

[Docket No. QF95-328-006]

Take notice that on April 2, 2004, EcoEléctrica, L.P. (EcoEléctrica) filed with the Federal Energy Regulatory Commission an application for recertification as a qualifying cogeneration facility (QF) pursuant to 292.207(b) of the Commission's regulations. No determination has been made that the submittal constitutes a complete filing.

EcoEléctrica states that the cogeneration facility (Facility) is located in Peñuelas, Puerto Rico and uses natural gas as its primary energy source. The Facility consists of two nominally rated 171,690 kW combustion turbine generators in combined-cycle, two multi-pressure heat recovery steam generators, and a single cylinder, single flow, nominally rated 214,000 kW reheat steam turbine generator set and has a maximum gross electric power production capacity of 578 MW. The facility is interconnected with the Puerto Rico Electric Power Authority (PREPA). EcoEléctrica sells electric energy to PREPA. PREPA provides backup power, maintenance power and interruptible power to the Facility.

Comment Date: April 26, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-855 Filed 4-14-04; 8:45 am]

BILLING CODE 6717-01-P